DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Survey of State Government Research & Development

OMB Control Number: 0607-0933.

Form Number(s): State Coordinator Web Form, State Agency Web Form.

Type of Request: Extension of a currently approved collection.

Burden Hours: 542.

Number of Respondents: 552.

Average Hours Per Response: State Coordinators—4 hours; State Agencies—1 hour and 45 minutes.

Needs and Uses: The Census Bureau is requesting a three year extension of the collection of state government research and development (R&D) expenditures conducted by the Census Bureau on behalf of the National Science Foundation (NSF). The NSF Act of 1950 includes a statutory charge to “provide a central clearinghouse for the collection, interpretation, and analysis of data on scientific and engineering resources and to provide a source of information for policy formulation by other agencies in the Federal Government.” Under the aegis of this legislative mandate, NSF and its predecessors have sponsored surveys of R&D since 1953, including since 2006 the State Government R&D Survey. This survey has helped to expand the scope of R&D collections to include state governments, where previously there had been no established collection efforts.

NSF sponsors surveys of R&D activities of Federal agencies, higher education institutions, and private industries. The data collected from this survey instrument fills the void that previously existed for collection of R&D activities at the state government department or agency level. The results of these surveys provide a consistent information base for government officials, industry professionals, and researchers to use in formulating public policy and planning in science and technology. These surveys allow for the analysis of current and historical trends in research and development in the U.S., as well as, comparisons with other countries.

The Census Bureau, serving as collection agent, employs a methodology similar to the one used to collect information from state and local governments on established censuses and surveys. This methodology involves identifying a central coordinator in each state who will assist Census Bureau staff in identifying appropriate state departments/agencies to survey. These state contacts also verify data responses and assist with nonresponse follow-up. The collection approach using a central state contact is used successfully at the Census Bureau in surveys of local school districts, municipal and county governments, and state government finances.

Items on the survey form include R&D expenditures according to the source of funding, by performer of the work (i.e., internal and external to state agencies), by type (e.g., agriculture, energy, health, transportation, etc.), by character of work (i.e., basic research, applied research, or developmental), and by R&D plant (e.g., construction projects). Final results produced by NSF contain state and national estimates and are useful to a variety of data users interested in research and development performance including: The National Science Board; the Office of Management and Budget (OMB); the White House Office of Science and Technology Policy (OSTP) and other science policy makers; institutional researchers; and private organizations.

Legislators, policy officials, and researchers rely on statistics to make informed decisions about R&D investment at the Federal, state, and local level. These statistics are derived from the existing NSF sponsored surveys of Federal agencies, higher education institutions, and private industry. The total picture of R&D expenditures, however, had been incomplete due to the lack of relevant and timely data from state governments prior to this survey collection, which now fills that void.

State government officials and policy makers garner the most benefit from the results of this survey. Governors and legislatures need a reliable, comprehensive source of data to help in evaluating how best to attract the high-tech, R&D industries to their state. Officials are able to evaluate their investment in R&D based on comparisons with other states. These comparisons include the sources of funding, the type of R&D being conducted, and the actual performer of the work.

The information collected from the State Government R&D Survey is used at the Federal level to assess and direct investment in technology and economic issues. Congressional committees and the Congressional Research Service use results of the R&D surveys extensively. Inquiries made to NSF by congressional staff concerning industry and academic data are well documented. In addition, officials from several Federal agencies make use of the data.

NSF also uses data from this survey in various publications produced about the state of R&D in the U.S. The Science and Engineering Indicators series, for example, is a biennial report mandated by Congress and describes quantitatively the condition of the country's R&D efforts. Results are also likely to be included in the National Patterns of Research and Development Resources tabulations and in the Science and Engineering Indicators report.

The availability of state R&D data on the Internet makes this survey visible to several other users, as well. Media, university researchers, nonprofit organizations, and foreign government officials are also consumers of state R&D statistics. All users are able to utilize this information in an attempt to better understand the nation's R&D resources.

Affected Public: State, local or Tribal Government.

Frequency: Biennially.

Respondent's Obligation: Voluntary.

Legal Authority: Title 13 U.S.C., Section 8(b).

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: March 13, 2013.
Glenna Mickelson,
Management Analyst, Office of the Chief Information Officer.

[FR Doc. 2013-06211 Filed 3-18-13; 8:45 am]

BILLING CODE 3510-07-P